DEPARTMENT OF HEALTH AND HUMAN SERVICES

Centers for Medicare and Medicaid Services

[Document Identifier: CMS-10210]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR part 1320(a)(2)(ii). This is necessary to ensure compliance with an initiative of the Administration. We cannot reasonably comply with the normal clearance procedures because of an unanticipated event, as stated in 5 CFR 1320.13(a)(2)(ii).

1. Type of Information Collection Request: Revision of a currently approved collection; Title of Information Collection: Additional Quality Measures and Procedures for Hospital Reporting of Quality Data for the FY 2009 IPPS Annual Payment Update (Surgical Care Improvement Project & Mortality Measures); Form Number: CMS-10210 (OMB#: 0938-1022); Use: The approval of this data collection process is essential to meet the requirements of Section 404 of the Medicare Prescription Drug and Modernization Act (MMA) of 2003 and its applicability to the hospital market basket. This section of the MMA requires the Secretary of Health and Human Services to, “... establish a frequency for revising such [market basket] weights including the labor share, in such market basket to reflect the most current data available more frequently than every five years.”

This information is used by Quality Improvement Organizations (QIOs) to identify opportunities for improvement, and to effectively target quality improvement initiatives in order to meet the statutory requirements for QIOs. The information will be made available to hospitals for their use in internal quality improvement initiatives. The information is used by CMS to direct its contractors to focus on particular areas of improvement, and to develop quality improvement initiatives. Most importantly, this information is available to beneficiaries, as well as to the public in general, to provide hospital information to assist them in making decisions about their health care. CMS conducts focus groups or market testing prior to public reporting hospital quality data on the Hospital Compare Web site.

For FY 2008, we propose to add the HCAHPS Survey to the measure set. For FY 2009, the set of measures for the RHQDAPU program will consist of measures previously approved through the PRA process, as well as additional measures identified through this rulemaking. We propose to add the following additional measures for FY 2009: Pneumonia 30-day Mortality (Medicare patients); SCIP Infection 4: Cardiac Surgery Patients with Controlled 6AM Postoperative Serum Glucose; SCIP Infection 6: Surgery Patients with Appropriate Hair Removal.

These three measures were recently endorsed by the National Quality Forum (NQF) and will be added to the set. All of these measures have been approved by the Hospital Quality Alliance (HQA) for inclusion in the national voluntary hospital reporting set, and are fully specified and included in The Joint Commission Specifications Manual for National Hospital Quality Measures. The measures offer important additions to our understanding of patient outcomes (mortality) and patient safety efforts, and could help encourage additional systems change in hospitals in the areas of pneumonia care and surgical services. Frequency: Recordkeeping, reporting, third-party disclosure—quarterly; Affected Public: Business or other for-profit, not-for-profit; Number of Respondents: 3,700; Total Annual Responses: 3,700; Total Annual Hours: 806,250.

CMS is requesting OMB review and approval of this collection by February 29, 2008, with a 180-day approval period. Written comments and recommendations will be considered from the public if received by the individuals designated below by February 25, 2008.

To obtain copies of the supporting statement and any related forms for the proposed paperwork collections referenced above, access CMS' Web Site address at http://www.cms.hhs.gov/regulations/pra or E-mail your request, including your address, phone number, OMB number, and CMS document identifier, to Paperwork@cms.hhs.gov, or call the Reports Clearance Office on (410) 786-1326.

In commenting on the proposed information collections please reference the document identifier or OMB control number. To be assured consideration, comments and recommendations must be submitted in one of the following ways by February 27, 2008.

1. Electronically. You may submit your comments electronically to http://www.regulations.gov. Follow the instructions for “Comment or Submission” or “More Search Options” to find the information collection document(s) accepting comments.

2. By regular mail. You may mail written comments to the following address:

CMS, Office of Strategic Operations and Regulatory Affairs, Division of Regulations Development, Attention: Document Identifier/OMB Control Number _____, Room C4-26-05, 7500 Security Boulevard, Baltimore, Maryland 21244-1850.

and,

OMB Human Resources and Housing Branch, Attention: Carolyn Lovett, New Executive Office Building, Room 10235, Washington, DC 20503, Fax Number: (202) 395-6974.

Dated: January 18, 2008.
Michelle Shortt,
Director, Regulations Development Group, Office of Strategic Operations and Regulatory Affairs.

[FR Doc. E8-1361 Filed 1-25-08; 8:45 am]

BILLING CODE 4120-01-P